DEPARTMENT OF COMMERCE

National Oceanic and Atmospheric Administration

[I.D. 111502A]

Southwest Region, Pacific islands Area Office; Public Meetings

AGENCY: National Marine Fisheries Service (NMFS), National Oceanic and Atmospheric Administration (NOAA), Commerce.

ACTION: Notice of public meetings.

SUMMARY: The Pacific Islands Area Office will hold public meetings on November 26 and November 27, 2002, from 3 p.m. to 6 p.m., to gather input to aid in the development of the American Samoa Observer Program.

ADDRESSES: The public meetings will be held at the Utelei Convention Center, Pago Pago, American Samoa.

FOR FURTHER INFORMATION CONTACT: Kevin Busscher, Port Coordinator; telephone: 973-2937, Ext. 215.

SUPPLEMENTARY INFORMATION:

Public Meetings

Public meetings will be conducted to gather input to aid in the development of the American Samoa Observer Program on Tuesday, November 26th and Wednesday November 27th from 3 p.m. to 6 p.m.

Topics to be discussed will include observer placement and specific duties, safety procedures, and vessel reimbursement.

This meeting is physically accessible to people with disabilities. Requests for sign language interpretation or other auxiliary aids should be directed to Kevin Busscher, 808-973-2937 Ext. 215 (voice) or 808-973-2941 (fax), at least 5 days prior to the meeting date.

Dated: November 15, 2002
Bruce C. Morehead,
Acting Director, Office of Sustainable Fisheries, National Marine Fisheries Service.

[FR Doc. 02-29682 Filed 11-20-02; 8:45 am]

BILLING CODE 3510-22-S